ENVIRONMENTAL PROTECTION AGENCY

[Docket ID Numbers EPA-HQ-OECA-2009-0280; FRL-8925-3]

Agency Information Collection Activities: Request for Comments on Proposed Information Collection Request (ICR) for Annual Public Water Systems Compliance Report

AGENCY: Environmental Protection Agency (EPA).

ACTION: Notice.

SUMMARY: In compliance with the Paperwork Reduction Act (44 U.S.C. 3501 et seq.), this document announces that EPA is planning to submit the following existing, approved, continuing Information Collection Request (ICR) to the Office of Management and Budget (OMB) for the purpose of renewing the ICRs. Before submitting the ICRs to OMB for review and approval, EPA is soliciting comments on specific aspects of the information collections as described below in SUPPLEMENTARY INFORMATION.

DATES: Comments must be submitted on or before August 31, 2009.

ADDRESSES: Comments may be submitted electronically, by mail, or through hand delivery/courier service. Follow the detailed instructions as provided under SUPPLEMENTARY INFORMATION, section A.

FOR FURTHER INFORMATION CONTACT: The contact individual for the ICR is listed under SUPPLEMENTARY INFORMATION, section II.C.

SUPPLEMENTARY INFORMATION:

A. How Can I Access the Docket and/or Submit Comments?

1. Docket Access Instructions

EPA has established a public docket for the ICRs listed in the SUPPLEMENTARY INFORMATION, section II.B. The docket is available for online viewing at http://www.regulations.gov, or in person viewing at the Enforcement and Compliance Docket and Information Center (ECDIC), in the EPA Docket Center (EPA/DC), EPA West, Room 3334, 1301 Constitution Avenue, NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

2. Instructions for submitting comments. Submit your comments by one of the following methods:

1. Electronic Submission: Access http://www.regulations.gov and follow the online instructions for submitting comments.

2. E-mail: docket.oeca@epa.gov.

3. Fax: (202) 566-1511.

4. Mail: Enforcement and Compliance Docket and Information Center (ECDIC), Environmental Protection Agency, EPA Docket Center (EPA/DC), Mailcode: 2201T, 1200 Pennsylvania Avenue, NW., Washington, DC 20460.

5. Hand Delivery: Enforcement and Compliance Docket and Information Center (ECDIC), Environmental Protection Agency, EPA Docket Center (EPA/DC), EPA West, Room 3334, 1301 Constitution Avenue, NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II.B, and reference the OMB Control Number for the ICR. It is EPA's policy that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What Information is EPA Particularly Interested in?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

C. What Should I Consider When I Prepare My Comments for EPA?

You may find the following suggestions helpful for preparing comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

II. ICR To Be Renewed

A. For All ICR

The Agency computed the burden for each of the recordkeeping and reporting requirements applicable to the industry for the currently approved ICR listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICR addresses Safe Drinking Water Act information collection requirements which have mandatory reporting requirements. The requirements are mandated under Section 1414(c)(3)(A) of the Safe Drinking Water Act.

An Agency may not conduct or sponsor, and a person is not required to respond to, a collection of information, unless the Agency displays a currently valid OMB control number. The OMB control numbers for EPA's regulations under Title 40 of the Code of Federal Regulations are published in the Federal Register, or on the related collection instrument or form. The display of OMB control numbers for certain EPA regulations is consolidated at 40 CFR part 9.

B. What Information Collection Activity or ICR Does This Apply to?

In compliance with the Paperwork Reduction Act (44 U.S.C. 3501 et seq.), this notice announces that EPA is planning to submit a continuing Information Collection Request (ICR) to the Office of Management and Budget (OMB):

(1) Docket ID Number: EPA-HQ-OECA-2009-0280.

Title: Annual Public Water Systems Compliance Report.

ICR Number: EPA ICR Number 1812.04, OMB Control Number 2020-0020.

ICR Status: This ICR is scheduled to expire on June 30, 2008.

C. Contact Individuals for ICR

(1) Annual Public Water Systems Compliance Report; Joyce Chandler of the Office of Compliance at (202) 564-7073; or via E-mail to: chandler.joyce@epa.gov; EPA ICR Number 1812.04; OMB Control Number 2020-0020; expiration date June 30, 2008.

D. Information for Individual ICR

(1) Annual Public Water Systems Compliance Report; Docket ID Number EPA-HQ-OECA-2009-0280, EPA ICR Number 1812.04; OMB Control Number 2020-0020; expiration date June 30, 2008.

Affected Entities: Fifty-six states (including Puerto Rico, the Virgin Islands, American Samoa, Guam, the Commonwealth of the Northern Mariana Islands, and Navajo Nation) currently have primary enforcement authority under the Safe Drinking Water Act. The State of Wyoming and the District of Columbia neither currently have primary enforcement authority nor are currently seeking primary authority, so the number of 56 states is unlikely to change during the next three years.

Abstract: Section 1414(c)(3)(A) of the Safe Drinking Water Act requires that each state (a term that includes states, commonwealths and territories) that has primary enforcement authority under the Act shall prepare, make readily available to the public, and submit to the Administrator of EPA, an annual report of violations of national primary drinking water regulations in the State. These Annual State Public Water System Compliance Reports are to include violations of maximum contaminant levels, treatment requirements, variances and exemptions, and monitoring requirements determined to be significant by the Administrator after consultation with the states. To minimize a state's burden in preparing its annual statutorily-required report, EPA issued guidance that explains what Section 1414(c)(3)(A) requires and provides model language and reporting templates. EPA also annually makes available to the states a computer query that generates for each state (from information states are already separately required to submit to EPA's national database on a quarterly basis) the required violations information in a table consistent with the reporting template in EPA's guidance.

Affected Entities: Entities potentially affected by this action are states, tribes, and territories that have primary enforcement authority and meet the definition of “state” under the Safe Drinking Water Act (Act).

Estimated Number of Respondents: 56.

Frequency of Response: Annually.

Estimated Total Annual Hour Burden: 4,480 hours.

Estimated Total Annual Cost: $280,000. This includes an estimated burden cost of $280,000 and an estimated cost of $0 for capital investment or maintenance and operational costs.

Changes in the Estimates: There is a decrease of 80 hours in the total estimated hour burden currently identified in the OMB inventory of Approved ICR Burden. This is due to the fact that the number of respondents included in the current approved ICR incorrectly counted the burden of the District of Columbia as a respondent, when that burden is done by EPA, not the District of Columbia. The hour burden for each respondent is estimated as 80 hours.

EPA will consider any comments received and may amend any of the above ICR, as appropriate. Then the final ICR packages will be submitted to OMB for review and approval pursuant to 5 CFR 1320.12. At that time, EPA will issue one Federal Register notice pursuant to 5 CFR 1320.5(a)(1)(iv) to announce the submission of the ICR(s) to OMB and the opportunity to submit additional comments to OMB. If you have any questions about any of the above or the approval process, please contact the person listed under FOR FURTHER INFORMATION CONTACT.

Dated: June 23, 2009.
Lisa C. Lund,
Director, Office of Compliance.

[FR Doc. E9-15683 Filed 7-1-09; 8:45 am]

BILLING CODE 6560-50-P